DEPARTMENT OF STATE

[Public Notice: 11728]

Notice of Imposition of Sanctions on Two Individuals and One Entity

ACTION: Determination.

SUMMARY: “Blocking Property of Weapons of Mass Destruction Proliferators and Their Supporters” and delegated authority, the Under Secretary of State for Arms Control and International Security, in consultation with the Secretary of the Treasury and the Attorney General, has determined that O Yong Ho, Roman Anatolyevich Alar, and Parsek LLC have engaged, or attempted to engage, in activities or transactions that have materially contributed to, or pose a risk of materially contributing to, the proliferation of weapons of mass destruction or their means of delivery.

Applicable Dates: The determination regarding the two individual and one entity, and imposition of sanctions on the individuals and entity and vessels identified in the SUPPLEMENTARY INFORMATION section of this notice were applicable on January 12, 2022.

FOR FURTHER INFORMATION CONTACT: Thomas Zarzecki, Director, Office of Counterproliferation Initiatives, Bureau of International Security and Nonproliferation, Department of State, Washington, DC 20520, tel.: 202-647-5193.

SUPPLEMENTARY INFORMATION: On June 28, 2005, the President, invoking the authority, inter alia, of the International Emergency Economic Powers Act (50 U.S.C. 1701-1706) (“IEEPA”), issued E.O. 13382 (70 FR 38567, July 1, 2005) (the “Order”), effective at 12:01 a.m. eastern daylight time on June 30, 2005. In the Order the President took additional steps with respect to the national emergency described and declared in E.O. 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

Pursuant to the authority in section 1(a)(ii) of E.O. 13382 and delegated authority, the Under Secretary of State for Arms Control and International Security, in consultation with the Secretary of the Treasury and the Attorney General, has determined that O Yong Ho, Roman Anatolyevich Alar, and Parsek LLC have engaged, or attempted to engage, in activities or transactions that have materially contributed to, or pose a risk of materially contributing to, the proliferation of weapons of mass destruction or their means of delivery.

Identifying information on the on the two individuals and one entity is as follows:

Name: O Yong Ho

• Nationality: DPRK

• Location: Russia

• Gender: Male

• Date of Birth: December 25, 1961

• Passport Number: 108410041 (DPRK)

• Passport Issue Date: October 13, 2018

• Passport Expiration Date: October 13, 2023

Name: Roman Anatolyevich ALAR

• Nationality: Russian

• Location: Moscow, Russia

• Gender: Male

• Date of Birth: January 17, 1973

• Passport Number: 719869648 (Russia)

• Passport Expiration Date: June 25, 2022

Parsek LLC

• Address: SH. ENTUZIASTOV D. 54, CHE 0 POM.VII CH K 9 111123 MOSCOW, Russia

• Phone: (+7) 926 7980856

• Russian Government Registration Number: 1097746565366

• Russian Tax Identification Number: 7714789249

• Russian National Classifier of Enterprises and Organizations Number: 62817585

The two individuals and the entity above have been added to the list of Specially Designated Nationals and Blocked Persons. All of their property and interests in property that are in the United States or in the possession or control of U.S. persons are blocked.

Bonnie D. Jenkins,
Under Secretary of State, Bureau of Arms Control & International Security, Department of State.

[FR Doc. 2022-10582 Filed 5-25-22; 8:45 am]

BILLING CODE 4710-27-P